DEPARTMENT OF HOUSING AND URBAN DEVELOPMENT

[Docket No. FR-4732-N-03]

Statutory Waiver Granted to New York State for Recovery From the September 11, 2001 Terrorist Attacks

AGENCY: Office of Community Planning and Development, HUD.

ACTION: Notice of waiver granted.

SUMMARY: This notice advises the public of a waiver of statutory provisions granted to the State of New York for the purpose of assisting in the recovery from the September 11, 2001, terrorist attacks on New York City. As described in the SUPPLEMENTARY INFORMATION section of this notice, HUD is authorized by statute to waive statutory and regulatory requirements for this purpose. This notice lists the provisions being waived.

FOR FURTHER INFORMATION CONTACT: Jan C. Opper, Senior Program Officer, Office of Block Grant Assistance, Department of Housing and Urban Development, Room 7286, 451 Seventh Street, SW., Washington, DC 20410, telephone number (202) 708-3587. Persons with hearing or speech impairments may access this number via TTY by calling the Federal Information Relay Service at (800) 877-8339. FAX inquiries may be sent to Mr. Opper at (202) 401-2044. (Except for the “800” number, these telephone numbers are not toll-free.)

SUPPLEMENTARY INFORMATION:

Authority To Grant Waivers

Section 434 of the Departments of Veterans Affairs and Housing and Urban Development, and Independent Agencies Appropriations Act, 2002 (Pub. L. 107-73, approved November 26, 2001) provides for the use of Community Development Block Grant (CDBG) funds made available from the Emergency Response Fund by the 2001 Emergency Supplemental Appropriations Act for Recovery from and Response to Terrorist Attacks on the United States (Pub. L. 107-38, approved September 18, 2001) to New York State for properties and businesses damaged by, and economic revitalization related to, the September 11, 2001, terrorist attacks on New York City. Section 434 authorizes the Secretary of HUD to waive, or specify alternative requirements for, any provision of any statute or regulation that the Secretary administers in connection with the obligation by the Secretary or use by the recipient of these funds, except for requirements related to fair housing, nondiscrimination, labor standards, and the environment.

The Defense Appropriations Act, 2002 (Pub. L. 107-117) made available an additional $2.0 billion in CDBG funds subject to section 434. It also stipulated that at least $500 million of the total be made available for individuals, nonprofits, or small businesses for economic losses from the September 11, 2001 terrorist attacks.

The Department finds that the following waiver is necessary to facilitate the use of at least $500 million of the $2.7 billion for economic loss, and that such use is not inconsistent with the overall purpose of the Housing and Community Development Act of 1974, as amended, or the Cranston-Gonzalez National Affordable Housing Act, as amended. Readers are referred to the Notices published by the Department in the Federal Register of January 28, 2002 (67 FR 4164) and February 7, 2002 (67 FR 5845) that enumerated a list of waivers and alternative requirements that were necessary to facilitate the use of the initial disbursement of $700 million in CDBG funds made available from the Emergency Response Fund.

Description and Justification of Requirements Waived

1. Waiver of eligibility limitation at Section 105 (a). The limitation at section 105 (a) of the Housing and Community Development Act of 1974, as amended (42 U.S.C. 5305 (a)) on eligible activities in the CDBG program is waived, in recognition of the requirements of Public Law 107-117, solely to treat “payment of compensation to an individual, nonprofit or small business for economic losses resulting from the September 11, 2001 terrorist attacks on New York City” as a distinct eligible activity. Accordingly, unless the grantee establishes limitations on the use of such payments by individuals, nonprofits or small businesses, CDBG and other crosscutting requirements generally would not apply to such use of payments.

The Departments of Veterans Affairs and Housing and Urban Development, and Independent Agencies Appropriations Act, 2002 (Pub. L. 107-73) requires HUD to publish this waiver in the Federal Register no later than five days before its effective date. The effective date of this waiver is March 25, 2002.

Dated: March 8, 2002.
Roy A. Bernardi,
Assistant Secretary for Community Planning and Development.

[FR Doc. 02-6333 Filed 3-15-02; 8:45 am]

BILLING CODE 4210-29-P